DEPARTMENT OF JUSTICE

Notice of Lodging of Proposed Consent Decree Under the Clean Water Act

On July 1, 2013, the Department of Justice lodged a proposed consent decree with the United States District Court for the District of Kansas in the lawsuit entitled United States v. Kansas Department of Transportation, Civil Action No. 13-cv-04069.

The consent decree resolves the United States' complaint for civil penalties and injunctive relief against the Kansas Department of Transportation (“KDOT”) relating to four separate road-building projects. The complaint alleged violations of Section 301(a) and 402 of the Clean Water Act (“CWA”), which prohibits the discharge of pollutants to waters of the United States unless authorized by an NPDES permit. Under the terms of the settlement, KDOT will pay a civil penalty of $477,500 to the United States. KDOT will also implement a variety of injunctive relief measures, which are above and beyond what is required by their NPDES construction storm water permit regarding personnel, training, maintenance, and contract specifications.

The publication of this notice opens a period for public comment on the Consent Decree. Comments should be addressed to the Assistant Attorney General, Environment and Natural Resources Division, and should refer to United States v. Kansas Department of Transportation, D.J. Ref. No. 90-5-1-1-10420. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Robert E. Maher, Jr.,
Assistant Section Chief, Environmental Enforcement Section, Environment and Natural Resources Division.

[FR Doc. 2013-16282 Filed 7-5-13; 8:45 am]

BILLING CODE 4410-15-P